DEPARTMENT OF COMMERCE

National Oceanic and Atmospheric Administration

[Docket No. 0809181225-81227-01]

Scientific Data Stewardship Project Office for 2009

AGENCY: National Environmental Satellite Data and Information Service Program Office (NESDISPO), National Environmental Satellite Data and Information Service (NESDIS), National Oceanic and Atmospheric Administration (NOAA), Commerce.

ACTION: Notice of funding availability.

SUMMARY: The Scientific Data Stewardship (SDS) Project seeks to support the development and stewardship of Climate Data Records (CDRs) for the atmosphere, cryosphere, oceans, and land surface. The Project follows the National Research Council's 2004 distinction between Fundamental and Thematic Climate Data Records, and is initially focused on Fundamental CDRs and lower complexity Thematic CDRs. The SDS Project is managed by NOAA, but is informed by other government agencies such that its results represent a government-wide contribution to climate change detection, assessment, understanding, adaptation and/or mitigation.

DATES: Letters of Intent should be received no later than 5 p.m. Eastern Time, October 31, 2008. Full proposals must be received no later than 5 p.m. Eastern Time, December 15, 2008.

ADDRESSES: Applications are available at http://www.grants.gov. If the applicant does Internet it take several weeks, involving multiple steps. In order to allow sufficient time for this process, applicants should register as soon as possible, even if they are not yet ready to submit their proposal. If an applicant has problems downloading the application package from Grants.gov, contact Grants.gov Customer Support at (800) 518-4726 or support@grants.gov.

FOR FURTHER INFORMATION CONTACT: SDSPO Grants Manager: Linda S. Statler, NOAA Scientific Data Stewardship Project Office, 151 Patton Ave., Asheville, NC 28801; Phone: 828-271-4657; E-mail: Linda.S.Statler-at-noaa.gov. SDSPO Project Manager: Jeff Privette, NOAA Scientific Data Stewardship Project Office, 151 Patton Ave., Asheville, NC28801; Phone: 828-271-4331; E-mail: Jeff.Privette-at-noaa.gov.

SUPPLEMENTARY INFORMATION: As part of its climate mandate, the National Oceanic and Atmospheric Administration (NOAA) has a responsibility to provide the Nation with objective data and tools to help characterize, understand, predict, mitigate and coordinate its Climate Data Record (CDR) activities with other agencies through the U.S. adapt to climate change and variability. To help fulfill that responsibility, NOAA has begun Climate Change Science Program (CCSP). The National Research Council defines a CDR as “a time series of measurements of sufficient length, consistency, and continuity to determine climate variability and change.” NOAA's National Climatic Data Center (NCDC) initiated the Scientific Data Stewardship (SDS) Project (hereafter referred to as the Project) to lead the Agency's CDR activities and to coordinate with the partner agencies. Given that early algorithm development is supported elsewhere, the Project is focused on the generalization and application of mature algorithms to multiple satellites and sensors which together span climate-relevant time periods. It also supports development of Climate Information Records (CIRs), defined as time series derived from CDRs and related long-term measurements that provide specific information (e.g., drought area, hurricane trends) about complex environmental phenomena in a manner useful to a variety of applications and user communities. Together, the various SDS products serve a wide range of scientific, commercial, decision support and policy-making needs. Various CDRs have been developed in the past, most notably through the NOAA-NASA Pathfinder Program in the 1990s. NOAA intends to leverage lessons from such efforts into a more systematic, comprehensive and sustained program. To help achieve this, the Project plans to execute its responsibilities in partnership with the larger scientific community through regular NOAA Announcements of Opportunity as well as through community reviews and working groups. The Project represents one of NOAA's primary contributions to the CCSP's climate data goals.

Electronic Access: The full text of the full funding opportunity announcement for this program can be accessed via the Grants.gov Web site at http://www.grants.gov. The announcement will also be available by contacting the program officials identified under FOR FURTHER INFORMATION CONTACT. Applicants must comply with all requirements contained in the full funding opportunity announcement.

Statutory Authority: 49 U.S.C. 44720(b) and 33 U.S.C. 883d.

CFDA: 11.440, Environmental Sciences, Applications, Data, and Education.

Funding Availability: The total anticipated federal funding in FY 2009 is $2.6M for new awards. The anticipated number of new awards, pending adequate proposals of merit, is from 5 to 15. Please be advised that actual funding levels will depend upon the final FY 2009 budget appropriations. Current plans assume that 100% of the total resources provided through the present FY 2009 SDS Announcement will support extramural efforts that include the broad academic, non-profit, federal and commercial communities. In FY 2007, the first year of SDS grants, the Project made eight awards totaling approximately $800K. In FY 2008, the Project expanded total funding to nearly $1,000K, which included funding for three new starts. Past or current grantees funded under this announcement are eligible to apply for a new award, which builds on previous activities or areas of research not covered in the previous award. Current grantees should not request supplementary funding for ongoing research through this announcement. The exact amount of funds that may be representatives. Awards are to be up to three years in length except where noted otherwise awarded will be determined in pre-award negotiations between the applicant and NOAA by the Project.

Eligibility: Eligible applicants are institutions of higher education; other nonprofits; for profits; commercial organizations; international organizations; state, local and Indian tribal governments; and Federal agencies. Applications from non-Federal and Federal applicants will be competed against each other. Please Note: Before non-NOAA Federal applicants may be funded, they must demonstrate that they have legal authority to receive funds from another Federal agency in excess of their appropriation. The only exception to this is governmental research facilities for awards issued under the authority of 49 U.S.C. 44720(b). Because this announcement is not proposing to procure goods or services from applicants, the Economy Act (31 U.S.C. 1535) is not an appropriate legal basis.

Cost Sharing Requirements: This competition does not have Cost Sharing requirements. However, applicants are welcome to describe applicable cost-sharing when relevant.

Evaluation and Selection Procedures: The general evaluation criteria and selection factors that apply to full applications to this funding opportunity are summarized below. The evaluation criteria for full applications will have different weights and details. Further information about the evaluation criteria and selection factors can be found in the full funding opportunity announcement.

Evaluation Criteria for Projects: 1. Importance and/or relevance and applicability of proposed project to the program goals (40%). This ascertains whether there is intrinsic value in the proposed work and/or relevance to NOAA, Federal, regional, Project, NOAA and CCSP CDR goals, and if the work is applicable to the FY 2009 Priority State, or local activities. For the SDS competition, this includes relevance to the SDS CDRs or activities. 2. Technical/Scientific Merit (40%). This assesses whether the approach is technically sound and/or innovative, if the methods are appropriate, and whether there are clear project goals and objectives. 3. Overall Qualifications of Applicants (10%). This ascertains whether the applicant possesses the necessary education, experience, training, facilities, and administrative resources to accomplish the project. 4. Project Costs (10%). The budget is evaluated to determine if it is realistic and commensurate with the project needs and time-frame. 5. Outreach and Education (0%). NOAA assesses whether this project provides a focused and effective education and outreach strategy regarding NOAA's mission to protect the Nation's natural resources. For the SDS competition, this criterion is not scored.

Review and Selection Process: Once a full application has been received by SDSPO, an initial administrative review is conducted to determine compliance with requirements and completeness of the application. Independent peer mail reviewers, and/or independent peer panel reviewers consisting of Federal, or a combination of both Federal and non-Federal experts, will evaluate full proposals in accordance with the evaluation criteria. If peer mail review and peer panel review are both conducted, the mail reviews will be provided to the panel for use in its deliberations prior to providing its ratings. If only a peer mail review is conducted, the Project Manager will use the rank numerical order of the mail reviews to determine funding recommendations. If only a peer panel review or both a peer panel review and a peer mail review are conducted, the Project Manager will use the numerical rank order of the peer review panel to determine funding recommendations. Occasionally a reviewer may, due to lack of familiarity in a particular area, choose not to score a particular proposal. The scores from remaining peer panel reviewers for that proposal will be averaged to produce a single numerical score for the proposal. The average score for each proposal will be used to determine rank of proposals. The Project Manager will recommend proposals to the Selecting Official in numerical rank order unless the proposal is justified to be selected out of rank order based upon additional documented requirements of any selection factor listed in section C. below. The Project Manager will review the amounts requested for each selected proposal (including costs for computing and networking services) and recommend the total duration and the amount of funding, which may be less than the proposal and budget requested. The Selecting Official will review the recommendations.

Selection Factors for Projects: The Selecting Official shall award in rank order unless a proposal is justified to be selected out of rank order based upon any of the following factors: 1. Availability of funding 2. Balance/distribution of funds a. Geographically b. By type of institutions c. By type of partners d. By research area e. By project types 3. Duplication of other projects funded or considered for funding by NOAA/federal agencies 4. SDS Project priorities and policy factors 5. Applicant's prior award performance 6. Partnerships with/participation of targeted group 7. Adequacy of information necessary for NOAA staff to make a NEPA determination and draft necessary documentation before recommendations for funding are made to the Grants Officer. The Selecting Official makes final recommendations for award to the Grants Officer who is authorized to obligate the funds.

Intergovernmental Review: Applications under the SDS Project are not subject to Executive Order 12372, “Intergovernmental Review of Federal Programs.”

Limitation of Liability: In no event will NOAA or the Department of Commerce be responsible for proposal preparation costs if these programs fail to receive funding or are cancelled because of other agency priorities. Publication of this announcement does not oblige NOAA to award any specific project or to obligate any available funds.

National Environmental Policy Act (NEPA): NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm.

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements: The Department of Commerce Pre-Award Notification Requirements for Grants and Cooperative Agreements contained in the Federal Register notice of February 11, 2008 (73 FR 7696), are applicable to this solicitation.

Paperwork Reduction Act: This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Mary E. Kicza,
Assistant Administrator for Satellite and Information Services.

[FR Doc. E8-23516 Filed 10-3-08; 8:45 am]

BILLING CODE 3510-22-P